DEPARTMENT OF AGRICULTURE

Rural Housing Service

[Docket No. RHS-23-SFH-0008]

Notice of Funding Availability for the Section 533 Housing Preservation Grant (HPG) for Fiscal Year 2023

AGENCY: Rural Housing Service, Department of Agriculture.

ACTION: Notice.

SUMMARY: The Rural Housing Service (RHS or the Agency), a Rural Development (RD) mission area agency of the United States Department of Agriculture (USDA), announces the availability of funding under the Housing Preservation Grant (HPG) program for fiscal year (FY) 2023, making available grant funds to sponsoring organizations for the repair or rehabilitation of housing owned or occupied by low- and very-low-income rural citizens under the HPG Program. The purpose of this notice is to announce the opening and closing dates for receipt of preapplications for HPG funds, including the availability of calendar year 2022 disaster assistance, from eligible applicants, as well as submission requirements. Expenses incurred in developing preapplications will be at the applicant's cost.

DATES: Completed preapplications for grants must be submitted according to one of the following methods:

• Paper Submissions: The deadline for receipt of a paper preapplication is 4:30 p.m. local time, June 5, 2023. Applicants intending to mail preapplications must provide sufficient time to permit delivery on or before the closing deadline date and time. Acceptance by the United States Postal Service or private mailer does not constitute delivery. Facsimile (FAX), and postage due applications will not be accepted. The preapplication dates and times are firm. The Agency will not consider any preapplication received after the deadline.

• Electronic submissions: Electronic preapplications must be received by email or submitted to Grants.gov. The deadline for receipt of an electronic preapplication is 11:59 p.m. Eastern Time on June 5, 2023. The preapplication dates and times are firm. The agency will not consider any preapplication received after the deadline. The Agency will not solicit or consider scoring or eligibility information that is submitted after the preapplication deadline. The Agency will not consider any preapplication received after the deadline. The Agency reserves the right to contact applicants to seek clarification information on materials contained in the submitted preapplication.

ADDRESSES: Application Submission: Entities wanting to apply for assistance may download the preapplication documents and requirements as stated in this Notice from the HPG website: https://www.rd.usda.gov/programs-services/single-family-housing-programs/housing-preservation-grants. Applicants will also find the requirements in the HPG program regulation found in 7 CFR 1944 (Subpart N). Preapplication information for electronic submissions may be found at http://www.Grants.gov.

Applicants may also request paper preapplication packages from the RD office in their state. A list of Rural Development State Office (RDSO) contacts can be found via: https://www.rd.usda.gov/about-rd/state-offices.

FOR FURTHER INFORMATION CONTACT: Mandy Couture, Finance and Loan Analyst, Single Family Housing Direct Division, Special Programs and New Initiatives Branch at (515) 418-2188 (voice) (this is not a toll-free number) or email: Mandy.Couture@usda.gov. You may also contact the RD office for the state in which the applicant is located. A list of RDSO contacts is provided at: https://www.rd.usda.gov/about-rd/state-offices.

SUPPLEMENTARY INFORMATION:

Overview

Federal Awarding Agency Name: Rural Housing Service.

Funding Opportunity Title: Grant.

Announcement Type: Notice of Funding Availability (NOFA).

Funding Opportunity Number: USDA-RD-HCFP-HPG-2023.

Assistance Listing: 10.433.

Dates: Completed preapplications for grants must be submitted according to one of the following methods:

• Paper Submissions: The deadline for receipt of a paper preapplication is 4:30 p.m. local time, June 5, 2023. Applicants intending to mail preapplications must provide sufficient time to permit delivery on or before the closing deadline date and time. Acceptance by the United States Postal Service or private mailer does not constitute delivery. Facsimile (FAX), and postage due applications will not be accepted. The preapplication dates and times are firm. The Agency will not consider any preapplication received after the deadline.

• Electronic submissions: Electronic preapplications must be received by email or submitted to Grants.gov. The deadline for receipt of an electronic application is 11:59 p.m. Eastern Time on June 5, 2023. The preapplication dates and times are firm. The agency will not consider any preapplication received after the deadline. The Agency will not solicit or consider scoring or eligibility information that is submitted after the preapplication deadline. The Agency will not consider any preapplication received after the deadline. The Agency reserves the right to contact applicants to seek clarification information on materials contained in the submitted preapplication.

Rural Development Key Priorities: The Agency encourages applicants to consider projects that will advance the following key priorities (more details available at https://www.rd.usda.gov/priority-points):

• Reducing climate pollution and increasing resilience to the impacts of climate change through economic support to rural communities.

• Ensuring all rural residents have equitable access to RD programs and benefits from RD funded projects; and

• Assisting rural communities recover economically through more and better market opportunities and through improved infrastructure.

For further information, visit https://www.rd.usda.gov/priority-points.

A. Program Description

1. Purpose of the Program. The HPG program is a grant program administered by the Single-Family Housing Programs of RHS. It is limited to eligible rural areas and to qualified entities (such as public agencies, private non-profit organizations, and federally recognized Tribes). Grant funds can be used to assist low- and very low-income homeowners in repairing and rehabilitating their homes in rural areas.

The program assists cooperative housing complexes and rental property owners in rural areas in repairing and rehabilitating their units if they agree to make such units available to very low- and low-income persons. Rental property owners can include Section 515 and 538 rental properties if the eligibility requirements are met for the HPG program. In accordance with 7 CFR 1944.663, rental property owners must agree to make the units repaired or rehabilitated available for occupancy to very low- or low-income persons for a period of not less than five years. The minimum five-year rent restriction for very low- and low-income tenants will only apply to the units that are repaired with the HPG funding. Any units within the property that were not repaired with HPG funding will not be subject to the five-year restriction.

2. Statutory and Regulatory Authority. Funding is authorized by Section 533 of the Housing Act of 1949, as amended and pursuant to the Consolidated Appropriations Act, 2023; Public Law 117-328; 42 U.S.C. 1490m, and 7 CFR 1944, subpart N.

3. Definitions. The definitions applicable to this notice may be found at 7 CFR 1944.656.

4. Application of Awards. The Agency will review, evaluate, and score preapplications in response to this notice based on the provisions in 7 CFR 1944.679 and as indicated in this notice.

B. Federal Award Information

Type of Award: Grants.

Fiscal Year Funds: FY 2023.

Available Funds: Approximately $18.5 million is made available to eligible participants. Approximately $2.5 million of this funding is available for disaster assistance. RHS may at its discretion, increase the total level of funding available in this category from any available source provided the awards meet the requirements of the statute which made the funding available to the Agency.

Award Amounts: No single entity may be awarded more than ½ of a state's allocation if there are two or more preapplications for a given state that meet the criteria of 7 CFR 1944.679(a), according to 7 CFR 1944.680. Award amounts available in FY 2023 State Allocation have not been finalized and can be obtained from the RDSO. A maximum award of $50,000 is available for disaster assistance with no state maximum for awards.

A list of RDSO contacts is provided at: https://www.rd.usda.gov/about-rd/state-offices.

Anticipated Award Date: The Agency anticipates making awards approximately 120 days after the application deadline.

Performance Period: 24 months from the executed grant agreement.

Renewal or Supplemental Awards: None.

Approximate Number of Awards: The number of awards will depend on the number of eligible participants and the total amount of requested funds. Based on the Agency's prior experience with this program, it expects to make approximately 100-150 awards.

C. Eligibility Information

1. Eligible Applicants. Potential applicants must meet the eligibility requirements of 7 CFR 1944.658. Additionally, potential applicants must meet the requirements of 7 CFR 1944.661, 1944.662, and/or 1944.686 as applicable. Eligible entities for these competitively awarded grants include State and local governments, non-profit corporations, which may include, but not be limited to Faith-Based and community organizations; federally recognized Indian tribes; and consortia of eligible entities. HPG applicants who were previously selected for HPG funds are eligible to submit new preapplications to apply for FY 2023 HPG program funds. An additional HPG grant may be made when the grantee has achieved or nearly achieved the goals established for the previous or existing grant. . The commitment of program dollars will be made to selected applicants who have fulfilled the necessary requirements for obligations.

Preapplications for disaster assistance grants may be utilized for calendar year 2022 presidentially declared disaster area(s) only (2022 presidentially declared disaster areas can be viewed at https://www.fema.gov/disaster/declarations).

2. Cost Sharing or Matching. Pursuant to 7 CFR 1944.652(a)(1), grantees are expected to coordinate and leverage funding for repair and rehabilitation activities; as well as replacement housing, with housing and community development organizations or activities operating in the same geographic area. While it is encouraged that HPG funds be leveraged with other resources, cost sharing or matching is not a requirement for the HPG applicant as the HPG applicant would not be denied an award of HPG funds if all other project selection criteria have been met.

3. Discretionary Points. None.

4. Other. Awards made under this Notice are subject to the provisions contained in the Consolidated Appropriations Act, 2023 (Pub. L. 117-328) Division E Financial Services and General Government Appropriations Act, 2023, Title VII General Provisions—Government-wide, sections 744 and 745, regarding Corporate Felony Convictions and Corporate Federal Tax Delinquencies. To comply with these provisions, only applicants that are or propose to be, corporations will submit Form AD 3030, “Representations Regarding Felony Conviction and Tax Delinquent Status for Corporate Applicants” as part of their preapplication. There are no limits on proposed direct and indirect costs. Expenses incurred in developing preapplications will be at the applicant's cost.

D. Application and Submission Information

1. Address to Request Application Package. Entities wanting to apply for assistance may download the preapplication documents for this Notice from the HPG website: https://www.rd.usda.gov/programs-services/single-family-housing-programs/housing-preservation-grants. Application information for electronic submissions may be found at https://www.grants.gov.

Applicants may also request a paper application package from the RD office in their state. A list of RDSO contacts can be found via https://www.rd.usda.gov/about-rd/state-offices.

2. Content and Form of Application Submission. All requirements for submission of a preapplication under the Housing Preservation Program are subject to 7 CFR 1944, subpart N. If the applicant is ineligible or the preapplication is incomplete, the Agency will inform the applicant in writing of the decision, reasons therefore, and its appeal rights and no further evaluation of the application will occur.

As specified by 7 CFR 1944.676, the Agency requires applicants to submit the following information to make an eligibility determination:

1. An SF-424, “Application for Federal Assistance”;

(i) Made available by contacting any RDSO at the website: http://www.rd.usda.gov/contact-us/state-offices; or

(ii) Grants.gov at the following website: https://www.grants.gov.

2. A statement of activities proposed by the applicant for its HPG program as appropriate to the type of assistance the applicant is proposing, including:

(i) A complete discussion of the type of and conditions for financial assistance for housing preservation, including whether the request for assistance is for a homeowner assistance program, a rental property assistance program, or a cooperative assistance program.

(ii) The process for selecting recipients for HPG assistance, determining housing preservation needs of the dwelling, performing the necessary work, and monitoring/inspecting work performed.

(iii) A description of the process for coordinating with other public and private organizations and programs that provide assistance in rehabilitation of historic properties in accordance with 7 CFR 1944.673.

(iv) The development standard(s) the applicant will use for the housing preservation work; and, if not the RD standards for existing dwellings, the evidence of its acceptance by the jurisdiction where the grant will be implemented.

(v) The time schedule for completing the program.

(vi) The staffing required to complete the program.

(vii) The estimated number of very low- and low-income minority and non-minority persons the grantee will assist with HPG funds; and, if a rental property or cooperative assistance program, the number of units and the term of restrictive covenants on their use for very low- and low-income.

(viii) The geographical area(s) to be served by the HPG program.

(ix) The annual estimated budget for the program period based on the financial needs to accomplish the objectives outlined in the proposal. The applicant can use SF-424A to provide this information.

(x) A copy of an indirect cost proposal/rate or direct cost policy when the applicant has another source of federal funding in addition to the RD HPG program.

(xi) A brief description of the accounting system to be used.

(xii) The method of evaluation to be used by the applicant to determine the effectiveness of its program which encompasses the requirements for quarterly reports to RD in accordance with 7 CFR 1944.683(b) and the monitoring plan for rental properties and cooperatives (when applicable) according to 7 CFR 1944.689.

(xiii) The source and estimated amount of other financial resources to be obtained and used by the applicant for both HPG activities and housing development and/or supporting activities.

(xiv) The use of program income if any, and the tracking system used for monitoring same.

(xv) The applicant's plan for disposition of any security instruments held by them as a result of its HPG activities in the event of its loss of legal status.

(xvi) Any other information necessary to explain the proposed HPG program.

(xvii) The outreach efforts outlined in 7 CFR 1944.671(b).

3. Experience. Complete information about the applicant's experience and capacity to carry out the objectives of the proposed HPG program (7 CFR 1944.676(b)(2)).

4. Evidence of Legal Existence. Evidence of the applicant's legal existence, including, in the case of a private non-profit organization, a copy of, or an accurate reference to, the specific provisions of state law under which the applicant is organized; a certified copy of the applicant's Articles of Incorporation and Bylaws or other evidence of corporate existence; certificate of incorporation for applicants other than public bodies; evidence of good standing from the state when the corporation has been in existence one year or more; and the names and addresses of the applicant's members, directors and officers. If other organizations are members of the applicant-organization, or the applicant is a consortium, preapplications should be accompanied by the names, addresses, and principal purpose of the other organizations. If the applicant is a consortium, documentation showing compliance with paragraph (4)(ii) under the definition of “organization” in 7 CFR 1944.656 must also be included.

5. Audited and Financial Statements. For a private non-profit entity, the most recent audited statement and a current financial statement dated and signed by an authorized officer of the entity showing the amounts and specific nature of assets and liabilities together with information on the repayment schedule and status of any debt(s) owed by the applicant. If the applicant is an organization being assisted by another private non-profit organization, the same type of financial statement should also be provided by that organization.

6. Narrative Statement. A brief narrative statement which includes information about the area to be served and the need for improved housing (including both percentage and the actual number of both low-income and low-income minority households and substandard housing), the need for the type of housing preservation assistance being proposed, the anticipated use of HPG resources for historic properties, and the method of evaluation to be used by the applicant in determining the effectiveness of its efforts (according to 7 CFR 1944.676(b)(1)(xii)).

7. Alleviating Overcrowding Statement. A statement containing the component for alleviating any overcrowding as defined by 7 CFR 1944.656.

8. List of Other Activities. A list of other activities the applicant is engaged in and expects to continue, a statement as to any other funding, and whether it will have sufficient funds to assure continued operation of the other activities for at least the period of the HPG grant agreement.

9. Project Selection Criteria. Any other information necessary to address the selection criteria in 7 CFR 1944.679.

10. Environmental Compliance Agreement. The applicant must comply with the requirements of 7 CFR part 1970 and submit 1970-A Exhibit H “Multi-tier Action Environmental Compliance Agreement.”

11. Public Participation and Intergovernmental Review. Intergovernmental Review. In accordance with 7 CFR 1944.674(c), the HPG program is subject to the provisions of Executive Order 12372, which requires intergovernmental consultation with state and local officials. RD conducts intergovernmental consultation as implemented with 2 CFR part 415, subpart C. Not all States have chosen to participate in the intergovernmental review process. A list of participating States is available at the following website: https://www.whitehouse.gov/omb/management/office-federal-financial-management/. Preapplications from federally recognized Indian Tribes are not subject to this requirement.

(i) The applicant must submit written statements and related correspondence reflecting compliance with 7 CFR 1944.674(a) regarding consultation with local leaders from the county, parish, and/or township governments of the area where the HPG activities will take place for the purpose of assuring that the proposed HPG program is beneficial and does not duplicate current activities. American Indian nonprofit organization applicants should obtain the written concurrence of the tribal governing body in lieu of consulting with the county governments when the program is operated only on tribal land.

(ii) The applicant is to make its statement of activities available to the public for comment prior to submission to RD pursuant to 7 CFR 1944.674(b). The applicant(s) must announce the availability of its statement of activities for review in a print or online newspaper of general circulation in the project area and allow at least 15 days for public comment. The start of this 15-day period must occur no later than 16 days prior to the last day for acceptance of preapplications by the Agency. Federally recognized Indian Tribes, pursuant to 7 CFR 1944.674, should obtain the written concurrence of the tribal governing body in lieu of consulting with the county governments when the program is operated only on tribal land. The preapplication must contain a description of how the comments (if any were received) were addressed.

12. Equal Opportunity Agreement. The applicant must submit an original of Form RD 400-1, “Equal Opportunity Agreement” and Form RD 400-4, “Assurance Agreement” in accordance with 7 CFR 1944.676.

13. RD Instruction 2000-FF. Provided for informational purposes during the preapplication period per 7 CFR 1944.673.

Applicants should review 7 CFR part 1944, subpart N for a comprehensive list of all application requirements. Preapplications will not be considered for funding if they do not provide sufficient information to determine eligibility or are missing required elements.

Applicants must collect and maintain data provided by recipients on race, sex, and national origin and ensure ultimate recipients collect and maintain this data as described in 7 CFR 1944.671. Race and ethnicity data will be collected in accordance with OMB Federal Register notice, “Revisions to the Standards for the Classification of Federal Data on Race and Ethnicity” (62 FR 58782), October 30, 1997. Sex data will be collected in accordance with Title IX of the Education Amendments of 1972. These items should not be submitted with the application but should be available upon request by the Agency.

The applicant and the recipient must comply with Title VI of the Civil Rights Act of 1964, Title IX of the Education Amendments of 1972, the Americans with Disabilities Act (ADA), Section 504 of the Rehabilitation Act of 1973, Age Discrimination Act of 1975, Executive Order 12250, Executive Order 13166 Limited English Proficiency (LEP), and 7 CFR part 1901, subpart E.

Debarment and suspension information is required in accordance with 2 CFR 417180 (OMB's Guidelines to Agencies on Governmentwide Debarment and Suspension (Nonprocurement) (Non procurement Debarment and Suspension) supplemented by 2 CFR 180417 (Nonprocurement Debarment and Suspension) if it applies. The section heading is “What information must I provide before entering into a covered transaction with a Federal agency?” located at 2 CFR 180.335. It is part of OMB's Guidance for Grants and Agreements concerning Governmentwide Debarment and Suspension. Applicants are not eligible if they have been debarred or suspended or otherwise excluded from, or ineligible for, participation in Federal assistance programs under 2 CFR parts 180 and 417.

3. System for Award Management and Unique Entity Identifier.

(a) At the time of application, each applicant must have an active registration in the System for Award Management (SAM) before submitting its application in accordance with 2 CFR 25 (https://www.ecfr.gov/current/title-2/subtitle-A/chapter-I/part-25). To register in SAM, entities will be required to create a Unique Entity Identifier (UEI). Instructions for obtaining the UEI are available at https://sam.gov/content/entity-registration.

(b) Applicant must maintain an active SAM registration, with current, accurate and complete information, at all times during which it has an active Federal award or an application under consideration by a Federal awarding agency.

(c) Applicant must ensure they complete the Financial Assistance General Certifications and Representations in SAM.

(d) Applicants must provide a valid UEI in its application, unless determined exempt under 2 CFR 25.110 (https://www.ecfr.gov/current/title-2/subtitle-A/chapter-I/part-25/subpart-A/section-25.110).

(e) The Agency will not make an award until the applicant has complied with all SAM requirements including providing the UEI. If an applicant has not fully complied with the requirements by the time the Agency is ready to make an award, the Agency may determine that the applicant is not qualified to receive a Federal award and use that determination as a basis for making a Federal award to another applicant.

4. Submission Dates and Times. The Agency will not solicit or consider new scoring or eligibility information that is submitted after the preapplication deadline. RHS also reserves the right to ask applicants for clarifying information and additional verification of assertions in the application.

5. Intergovernmental Review. Executive Order (E.O.) 12372, “Intergovernmental Review of Federal Programs,” applies to this program. This E.O. requires that Federal agencies provide opportunities for consultation on proposed assistance with State and local governments. Many states have established a Single Point of Contact (SPOC) to facilitate this consultation. For a list of States that maintain a SPOC, please see the White House website: https://www.whitehouse.gov/omb/management/office-federal-financial-management/. If your State has a SPOC, you may submit a copy of the application directly for review. Any comments obtained through the SPOC must be provided to your State Office for consideration as part of your application. If your state has not established a SPOC, you may submit your application directly to the Agency. Applications from Federally recognized Indian Tribes are not subject to this requirement.

6. Funding Restrictions. Applications must be for eligible purposes as defined above and must comply with the grant fund limitations found within 7 CFR 1944. There are no limits on proposed direct and indirect costs. Expenses incurred in developing preapplications will be at the applicant's cost.

7. Other Submission Requirements: None.

E. Pre-Application Review Information

1. Criteria.

All eligible and complete preapplications for Section 533 HPG funds must be filed with the appropriate RDSO and all paper or electronic preapplications must meet the requirements of this Notice and 7 CFR part 1944.679. Preapplications determined not eligible and/or not meeting the selection criteria will be notified by the RDSO.

2. Review and Selection Process.

The Agency reserves the right to offer the applicant less than the grant funding requested. RDSOs will utilize the following threshold project selection criteria for applicants in accordance with 7 CFR 1944.679:

(a) Providing a financially feasible program of housing preservation assistance. “Financially feasible” is defined as proposed assistance which will be affordable to the intended recipient or result in affordable housing for very low- and low-income persons.

(b) Serving eligible rural areas with a concentration of substandard housing for households of very low- and low-income.

(c) Being an eligible applicant as defined in 7 CFR 1944.658.

(d) Meeting the requirements of consultation and public comment in accordance with 7 CFR 1944.674.

(e) Submitting a complete preapplication as outlined in 7 CFR 1944.676.

3. Scoring.

For applicants meeting all the requirements listed above, the RDSOs will use weighted criteria in accordance with 7 CFR part 1944, subpart N as selection for the grant recipients. Each preapplication and its accompanying statement of activities will be evaluated and, based solely on the information contained in the preapplication, the applicant's proposal will be numerically rated on each criterion within the range provided. The highest-ranking applicant(s) will be selected based on allocation of funds available to the state.

(1) Points are awarded based on the percentage of very low-income persons that the applicant proposes to assist, using the following scale:

(i) More than 80%: 20 points

(ii) 61% to 80%: 15 points

(iii) 41% to 60%: 10 points

(iv) 20% to 40%: 5 points

(v) Less than 20%: 0 points

(2) The applicant's proposal may be expected to result in the following percentage of HPG fund use (excluding administrative costs) to total cost of unit preservation. This percentage reflects maximum repair or rehabilitation with the least possible HPG funds due to leveraging, innovative financial assistance, owner's contribution, or other specified approaches. Points are awarded based on the following percentage of HPG funds (excluding administrative costs) to total funds:

(i) 50% or less: 20 points

(ii) 51% to 65%: 15 points

(iii) 66% to 80%: 10 points

(iv) 81% to 95%: 5 points

(v) 96% to 100%: 0 points

(3) The applicant has demonstrated its administrative capacity in assisting very low- and low-income persons to obtain adequate housing based on the following:

(i) The organization or a member of its staff has at least one or more years of experience successfully managing and operating a rehabilitation or weatherization type program: 10 points.

(ii) The organization or a member of its staff has at least one or more years of experience successfully managing and operating a program assisting very low- and low-income persons obtain housing assistance: 10 points.

(iii) If the organization has administered grant programs, there are no outstanding or unresolved audit or investigative findings which might impair carrying out the proposal: 10 points.

(4) The proposed program will be undertaken entirely in rural areas outside Metropolitan Statistical Areas (MSAs) identified by RD as having populations below 10,000 or in remote parts of other rural areas (i.e., rural areas contained in MSAs with less than 5,000 population) as defined in 7 CFR 1944.656: 10 points.

(5) The program will use less than 20 percent of HPG funds for administration purposes:

(i) More than 20%: Not eligible

(ii) 20%: 0 points

(iii) 19%: 1 point

(iv) 18%: 2 points

(v) 17%: 3 points

(vi) 16%: 4 points

(vii) 15% or less: 5 points

(6) The proposed program contains a component for alleviating overcrowding as defined in 7 CFR 1944.656: 5 points.

In the event more than one preapplication receives the same number of points, those preapplications will then be ranked based on the actual percentage figure used for determining the points in item (1) in the “Scoring” section of this Notice (7 CFR 1944.679 (b)(1)).

Example of 1st tie-break:

Both Applicants score 80 points

Applicant X's percentage in “Scoring” section item (a) is 65%

Applicant B's percentage in “Scoring” section item (a) is 75%

Applicant B is ranked higher than Applicant X

Applicant B will be funded before Applicant X

Further, if preapplications are still tied, then those preapplications still tied will be ranked based on the percentage figures used for determining the points in item (2) in the “Scoring” section of this Notice (7 CFR 1944.679 (b)(2)).

Example of 2nd tie-break:

Both Applicants score 80 points

Both Applicants percentage in “Scoring” section item (a) is 65%

Applicant X's percentage in “Scoring” section item (b) is 55%

Applicant B's percentage in “Scoring” section item (b) is 60%

Applicant X is ranked higher with a lower percentage than Applicant B

Applicant X will be funded before Applicant B

Further, 7 CFR 1944.679(c), for preapplications where HPG assistance to rental properties or co-ops is proposed, those still tied will be further ranked based on the number of years the units are available for occupancy under the program (a minimum of five years is required). For this part, ranking will be based on most to least number of years.

Example of 3rd tie-break:

Both Applicants score 80 points

Both Applicants percentage in “Scoring” section item (a) is 65%

Both Applicants percentage in “Scoring” section item (b) is 55%

Applicant X's rental unit will be available for occupancy under the program for 10 years

Applicant B's rental unit will be available for occupancy under the program for 5 years

Applicant X is ranked higher than Applicant B

Applicant X will be funded before Applicant B

If any of the applicants that remain tied after the 1st and 2nd tie-breaks are offering to assist single family owners, then the 3rd tie-break would not be applicable, and a lottery would be used to select the applicant to be funded.

If there is still a tie after the first two (or three, when applicable) tie-breaks, then a lottery system will be used to select the applicant to be funded. The lottery will be conducted at the National Office. The lottery will consist of the names of each preapplication with equal scores printed onto a same size piece of paper, which will then be placed into a receptacle that fully obstructs the view of the names. The Director of the Single-Family Housing Loan Division, in the presence of two witnesses, will draw a piece of paper from the receptacle. The name on the piece of paper drawn will be the applicant to be funded.

After the award selections are made by the National Office, all applicants will be notified of the status of their preapplications by email or mail with Form AD-622, “Notice of Preapplication Review Action.” Applicants will be given their review rights or appeal rights in accordance with 7 CFR 1944.682.

F. Federal Award Administration Information

1. Federal Award Notices.

The Agency will notify in writing, applicants whose preapplications have been selected for funding. At the time of notification, the Agency will advise the applicant what further information and documentation is required along with a timeline for submitting the additional information. If the Agency determines it is unable to select the preapplication for funding, the applicant will be informed in writing. Such notification will include the reasons the applicant was not selected. The Agency will advise applicants, whose preapplications did not meet eligibility and/or selection criteria, of their review rights or appeal rights in accordance with 7 CFR 1944.682.

2. Administrative and National Policy Requirements.

(a) The following additional requirements apply to grantees selected for this program:

(i) Form SF-424, “Application for Federal Assistance”

(ii) Form RD 1940-1, “Request for Obligation of Funds”

(iii) RD Instruction 1944-N Exhibit A, “Housing Preservation Grant Agreement”

(iv) Letter of Conditions (if applicable)

(v) Complete Form RD 1942-46, “Letter of Intent to Meet Conditions” (if applicable)

(vi) 1940-Q Exhibit A-1, “Certification for Contracts, Grants and Loans” (if applicable)

(vii) Form SF 3881, “ACH Vendor Payment Enrollment Form”

(viii) Form SF 270, “Request for Advance or Reimbursement”

(ix) Form SF 425, “Federal Financial Report”

(x) RD Instruction 1944-N Exhibits E-1 and E-2, “Quarterly (Final) Performance Report” and “Quarterly (Final) Performance Report Guide”

(xi) 1970-B Exhibit D, “Categorical Exclusion Form”

(xii) RD Instruction 1944-N Exhibit F-1, “Grantee's Process for Identifying Properties Requiring Rural Development Environmental Assessments”

(xii) FEMA Form 086-0-32, “Standard Flood Hazard Determination Form (SFHDF)”

(xiv) Execute Form SF-LLL, “Disclosure of Lobbying Activities” (if applicable)

The grant recipient must include the required nondiscrimination statements in any of their advertisements and brochures. Grantees will be required to collect and maintain data provided by recipients on race, sex, and national origin and ensure recipients collect and maintain this data. Race and ethnicity data will be collected in accordance with OMB Federal Register notice, “Revisions to the Standards for the Classification of Federal Data on Race and Ethnicity,” (62 FR 58782), October 30, 1997. Data on recipients' sex will be collected in accordance with Title IX of the Education Amendments of 1972. These items should not be submitted with the application but should be available upon request by the Agency.

3. Reporting.

Performance reporting, including applicable forms, narratives, and other documentation, are to be completed and submitted in accordance with the provisions of 7 CFR 1944.683 and the Grant Agreement. Further, all grantees must submit an audit or financial information covering the defined period of performance as outlined in 7 CFR 1944.688 and the Grant Agreement.

G. Federal Awarding Agency Contact(s)

For general questions about this announcement, please contact Mandy Couture, Finance and Loan Analyst, Single Family Housing Direct Division, Special Programs and New Initiatives Branch at (515) 418-2188 (voice) (this is not a toll-free number) or email: Mandy.Couture@usda.gov. The Program website also provides up to date contact information at https://www.rd.usda.gov/programs-services/single-family-housing-programs/housing-preservation-grants#contact.

H. Other Information

1. Paperwork Reduction Act. In accordance with the Paperwork Reduction Act of 1995 (44 U.S.C. chapter 35), the information collection requirements associated with the programs, as covered in this notice, have been approved by the Office of Management and Budget (OMB) under OMB Control Number 0575-0157.

2. National Environmental Policy Act. All recipients under this notice are subject to the requirements of 7 CFR part 1970.

3. Federal Funding Accountability and Transparency Act. All applicants, in accordance with 2 CFR part 25, must be registered in SAM and have a UEI number as stated in Section D.3 of this notice. All recipients of Federal financial assistance are required to report information about first-tier sub-awards and executive total compensation in accordance with 2 CFR part 170.

4. Civil Rights Act. All grants made under this notice are subject to Title VI of the Civil Rights Act of 1964 as required by the USDA (7 CFR part 15, subpart A—Nondiscrimination in Federally-Assisted Programs of the Department of Agriculture—Effectuation of Title VI of the Civil Rights Act of 1964) and Section 504 of the Rehabilitation Act of 1973, Title VIII of the Civil Rights Act of 1968, Title IX, Executive Order 13166 (Limited English Proficiency), Executive Order 11246, and the Equal Credit Opportunity Act of 1974.

5. Nondiscrimination Statement. In accordance with Federal civil rights laws and USDA civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the 711 Relay Service.

To file a program discrimination complaint, a complainant should complete a Form AD-3027, USDA Program Discrimination Complaint Form, which can be obtained online at https://www.usda.gov/sites/default/files/documents/ad-3027.pdf from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Joaquin Altoro,
Administrator, Rural Housing Service.

[FR Doc. 2023-08211 Filed 4-18-23; 8:45 am]

BILLING CODE 3410-XV-P